DEPARTMENT OF HOMELAND SECURITY

Coast Guard

[Docket No. USCG-2020-0491]

Termination of the U.S. Coast Guard Federal Advisory Committee

AGENCY: U.S. Coast Guard, Department of Homeland Security.

ACTION: Termination of Federal Advisory Committee.

SUMMARY: Under the provisions of the Federal Advisory Committee Act and the Government in the Sunshine Act of 1976, effective September 30, 2020, the U.S. Coast Guard gives notice that is it terminating the Lower Mississippi River Waterway Safety Advisory Committee.

FOR FURTHER INFORMATION CONTACT: Ms. Melanee G. Libby, Group Federal Officer for the U.S. Coast Guard, telephone (202) 372-4572, or email melanee.g.libby@uscg.mil.

Dated: September 8, 2020.
Wayne R. Arguin Jr.,
Captain, U.S. Coast Guard, Director of Inspections and Compliance.

[FR Doc. 2020-20375 Filed 9-15-20; 8:45 am]

BILLING CODE 9110-04-P